DEPARTMENT OF THE TREASURY

United States Mint

Senior Executive Service; Combined Performance Review Board (PRB)

AGENCY: Treasury Department, United States Mint (USM).

ACTION: Notice of Members of Treasury Combined Performance Review Board.

SUMMARY: This notice announces the appointment of the members of the Combined Performance Review Board (PRB) for the United States Mint, the Fiscal Service (FS), the Financial Crimes Enforcement Network (FinCEN), the Bureau of Engraving and Printing (BEP), and the Alcohol and Tobacco Tax and Trade Bureau (TTB). The Combined PRB reviews the performance appraisals of career senior executives below the level of the bureau head who are not assigned to the immediate Office of the Director of each bureau represented by the Combined PRB. The Combined PRB makes recommendations regarding proposed performance appraisals, ratings, bonuses, pay adjustments, and other appropriate personnel actions. Membership is effective on September 30, 2014.

Composition of the United States Treasury CPRB, including names and titles, is as follows:

Primary Members

Beverly Ortega Babers, Chief Administrative Officer, USM

Kimberly A. McCoy, Deputy Commissioner, Finance and Administration, FS

Peter S. Alvarado, Associate Director, FinCEN

Leonard R. Olijar, Deputy Director, BEP

Mary G. Ryan, Deputy Administrator, TTB

Alternate Members

Richard A. Peterson, Deputy Director, USM

Patricia (Marty) Greiner, Assistant Commissioner, Management/CFO, FS

Amy Taylor, Associate Director, Technology Solutions and Services Division, FinCEN

Will P. Levy III, Associate Director, Management, BEP

Theresa McCarthy, Assistant Administrator, Headquarters Operations, TTB

FOR FURTHER INFORMATION CONTACT: Annie Brown, Associate Director, Workforce Solutions Department; United States Mint; 801 9th Street NW., Washington, DC 20220; or call 202-354-7343.

Authority: 5 U.S.C. 4314(c)(4).

Dated: September 24, 2014.
Richard A. Peterson,
Deputy Director, United States Mint.

[FR Doc. 2014-23273 Filed 9-29-14; 8:45 am]

BILLING CODE P